NATIONAL SCIENCE FOUNDATION

Advisory Committee for Environmental Research and Education; Notice of Meeting

In accordance with the Federal Advisory Committee Act (Pub. L. 92-463, as amended), the National Science Foundation announces the following meeting:

Name: Advisory Committee for Environmental Research and Education.

Dates: June 19, 2015; 1:00 p.m.-2:30 p.m.

Place: Teleconference: (203) 607-6048 (participant code 6083852).

Type of Meeting: Open Teleconference.

Contact Person: Diane Pataki, National Science Foundation, Suite 655, 4201 Wilson Blvd., Arlington, Virginia 22230. Email: dpataki@nsf.gov.

Minutes: May be obtained from the contact person listed above.

Purpose of Meeting: To discuss finalization of draft Decadal Vision for Environmental Research and Education document the group is currently working on and how it will be rolled out.

Agenda

Friday, June 19, 2015

Discuss and refine draft of the Decadal Vision for Environmental Research and Education document.

Dated: April 28, 2015.
Suzanne Plimpton,
Acting, Committee Management Officer.

[FR Doc. 2015-10182 Filed 4-30-15; 8:45 am]

BILLING CODE 7555-01-P